DEPARTMENT OF TRANSPORTATION

National Highway Traffic Safety Administration

[U.S. DOT Docket Number NHTSA-2011-0045]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before May 31, 2011.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Walter Culbreath, NHTSA 1200 New Jersey Avenue, SW., W51-204, NPO-400,Washington, DC 20590. Mr. Culbreath's telephone number is (202) 366-1566. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

(1) Title: 23 CFR, part 1345, Occupant Protection Incentive Grant-Section 405

OMB Number: 2127—0600.

Affected Public: Business of other for profit organizations.

Type of Request: Extension of a currently approved collection.

Abstract: An occupant protection incentive grant is available to states that can demonstrate compliance with at least four of six criteria. Demonstration of compliance requires submission of copies of relevant seat belt and child passenger protection statutes plan and/or reports on statewide seat belt enforcement and child seat education programs and possibly some traffic court records. In addition, States eligible to receive grant funds must submit a Program Cost Summary (Form 217), allocating section 405 funds to occupant protection programs.

Estimated Annual Burden: 1,736.

Estimated Number of Respondents: 56.

(2) Title: 49 CFR 556, Petitions for Inconsequentiality.

OMB Control Number: 2127-0045.

Affected Public: Business or other for profit.

Abstract: The National Highway Traffic Safety Administration's statue at 49 U.S.C. 30113 General exemptions at subsection (b) Authority to exempt and procedures, authorizes the Secretary of Transportation upon application of a manufacturer, to exempt the applicant from the notice and remedy requirements of 49 U.S.C. Charter 301, if the Secretary determines that the defect or noncompliance is inconsequential as it relates to motor vehicle safety. The notice and remedy requirements of Chapter 301 are set forth in 49 U.S.C. 30120 Remedies for defects and noncompliance. Those sections require a manufacturer of motor vehicles or motor vehicle equipment to notify distributors, dealers, and purchasers if any of the manufacturer's products are determined either to contain a safety-related defect or to fail to comply with an applicable Federal motor vehicle safety standard. The manufacturer is under a concomitant obligation to remedy such defects or noncompliance. NHTSA exercised this statutory authority to excuse inconsequential defects or noncompliance when it promulgated 49 CFR Part 556, Petitions for Inconsequentiality—this regulation establishes the procedures for manufacturers to submit such petitions to the agency will use un evaluating those petitions. Part 556 allows the agency to ensure that petitions filed under 15 U.S.C. 30113 (b) are both properly substantiated and efficiently processed.

Estimated Annual Burden: 200 hours.

Estimated Number of Respondents: 40.

(3) Title: 49 CFR 571.125, Warning Devices.

OMB Number: 2127-0506.

Type of Request: Extension of a currently approved collection.

Affected Public: Business or other for profit organizations.

Abstract: 49 U.S.C. 30111, 30112, and 30117 of the National Traffic and Motor Vehicle Safety Act of 1996, authorizes the issuance of Federal Motor Vehicle Safety Standards (FMVSS). The Secretary is authorized to issue, amend, and revoke such rules and regulations as she/he deems necessary.

Using this authority, the agency issued FMVSS no. 125, “Warning Devices” (Appendix 2), which applies to devices, without self contained energy sources, that are designed to be carried mandatory in buses and trucks that have a gross vehicle weight rating (GVWR) greater than 10,000 pounds and voluntarily in other vehicles. These devices are used to warn approaching traffic of the presence of a stopped vehicle, except for devices designed to be permanently affixed to the vehicles.

Estimated Annual Burden: 1.

Estimated Number of Respondents: 3.

(4) Title: 49 CFR 571.218, Motorcycle Helmets (Labeling).

OMB Number: 2127-0518.

Type of Request: Extension of a currently approved collection.

Affected Public: Federal, Local, State, and Tribal Government, Business, or other for-profit organizations.

Abstract: The National Traffic Vehicle Safety statute at 49 U.S.C. subchapter II standards and compliance, sections 30111 and 30117 authorizes the issuance of Federal motor vehicle safety standards (FMVSS). The Secretary is authorized to issue, amend, and revoke such rules and regulations as he/she deems necessary. The Secretary is also authorized to require manufacturers to provide information to first purchasers or motor vehicles or motor vehicle equipment when the vehicle equipment is purchased, in a printed matter placed in the vehicle or attached to our accompanying the equipment. Using this authority, the agency issued the initial FMVSS No. 218, Motorcycle Helmets, in 1974. Motorcycle helmets are the devices used for protecting motorcyclists and other motor vehicle users in motor vehicle accidents. Federal Motor Vehicle Safety Standard No. 218 requires that each helmet shall be labeled permanently and legibly (S5.6), in a manner such that the label(s) can be read easily without removing padding or any other permanent part.

Estimated Annual Burden: 5,333.

Estimated Number of Respondents: 32.

(5) Title: Evaluation of State Motorcycle Safety Programs.

OMB Number: 2127-0652.

Type of Request: Extension of a currently approved collection.

Affected Public: Business or other for profit organizations.

Abstract: NHTSA will conduct a survey of State Motorcycle Safety Administrators and/or State Highway Safety Offices in all 50 States and the District of Columbia to gather data on State-level motorcycle safety programs. This survey will consist of a questionnaire in mail (paper and pencil) format, which will allow a telephone follow-up for further details as necessary. The study will use the State Motorcycle Safety Administrator and State Highway Safety Office survey to gather comprehensive data on what each of the 50 States and the District of Columbia are doing to promote and ensure safe riding behavior.

Estimated Annual Burden: 26.

Estimated Number of Respondents: 51.

(6) Title: 23 CFR Parts Uniform Safety Program Cost Summary Form for Highway Safety Plan.

OMB Number: 2127-0003.

Type of Request: Extension of a currently approved collection.

Affected Public: Business or other for profit organizations.

Abstract: Each State shall have a highway safety program approved by the Secretary, designed to reduce traffic accidents and deaths, injuries, and property damage resulting there from. Such program shall be in accordance with uniform guidelines promulgated by the Secretary to improve driver performance, and to improve pedestrian performance, motorcycle safety and bicycle safety. Under this program, States submit the Highway Safety Program and other documentation explaining how they intend to use the grant funds. In order to account for funds expended under these priority areas and other program areas, States are required to submit a Program Cost Summary. The Program Cost Summary is completed to reflect the State's proposed Allocation of funds (including carry-forward funds) by program area, based on the projects and activities identified in the Highway Safety Plan.

Estimated Annual Burden: 570.

Estimated Number of Respondents: 57.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: March 25, 2011.
Dan Pitton,
Director Office of Mission, Architect, and Planning.

[FR Doc. 2011-7490 Filed 3-29-11; 8:45 am]

BILLING CODE 4910-59-P